ENVIRONMENTAL PROTECTION AGENCY

[FRL-8952-7]

Adequacy Status of the Metropolitan Washington DC Area (DC-MD-VA) Area 8-Hour Ozone Non-Attainment Area's Reasonable Further Progress Plan Vehicle Emission Budgets for Transportation Conformity Purposes

AGENCY: Environmental Protection Agency (EPA).

ACTION: Notice of adequacy.

SUMMARY: In this notice, EPA is notifying the public that we have found the Motor Vehicle Emissions Budgets (MVEBs) in the 2008 Reasonable Further Progress (RFP) Plan, submitted on June 4, 2007, by the Maryland Department of the Environment (MDE) and on June 12, 2007 by the Virginia Department of Environmental Quality (VADEQ) and the District of Columbia Department of the Environment (DCDOE) are adequate for transportation conformity purposes. As a result of EPA's finding, the Metropolitan Washington, DC area must use the MVEBs from the 2008 RFP Plan for future conformity determinations for the 8-hour ozone standard.

DATES: These MVEBs are effective September 21, 2009.

FOR FURTHER INFORMATION CONTACT: Martin Kotsch, U.S. EPA, Region III, 1650 Arch Street, Philadelphia, PA 19103 at (215) 814-3335 or by e-mail at: kotsch.martin@EPA.gov. The finding is available at EPA's conformity Web site: http://www.epa.gov/otaq/stateresources/transconf/currsips.htm.

SUPPLEMENTARY INFORMATION: Throughout this document “we,” “us,”

or “our” refer to EPA. The word “budgets” refers to the motor vehicle emission budgets for volatile organic compounds (VOCs) and nitrogen oxides (NOx). The word “SIP” in this document refers to the RFP Plan for the Metropolitan Washington DC 8-hour Ozone Nonattainment Area submitted to EPA as SIP revisions on June 4 and June 12, 2007.

Today's notice is simply an announcement of a finding that EPA has already made. EPA sent a letter to MDE, VADEQ and DCDOE on July 29, 2009 stating that the MVEBs in the RFP Plan are adequate for transportation conformity purposes. As a result of EPA's finding, the State of Maryland, the Commonwealth of Virginia and the District of Columbia must use the MVEBs from the 2008 RFP Plan for future conformity determinations for the 8-hour ozone standard. This finding has also been announced on EPA's conformity Web site: http://www.epa.gov/otaq/stateresources/transconf/pastsips.htm. The adequate MVEBs are provided in the following table:

Washington D.C. Motor Vehicle Emissions Budgets
Nonattainment area | 2008 Reasonable Further Progress: VOC (tpd) | 2008 Reasonable Further Progress: NOX (tpd)
Washington D.C. | 70.8 | 159.8

Transportation conformity is required by section 176(c) of the Clean Air Act, as amended in 1990. EPA's conformity rule requires that transportation plans, programs and projects conform to state air quality implementation plans and establishes the criteria and procedure for determining whether or not they do. Conformity to a SIP means that transportation activities will not produce new air quality violations, worsen existing violations, or delay timely attainment of the national ambient air quality standards.

The criteria by which we determine whether a SIP's motor vehicle emission Budgets are adequate for conformity purposes are outlined in 40 CFR 93.118(e)(4). Please note that an adequacy review is separate from EPA's completeness review, and it also should not be used to prejudge EPA's ultimate approval of the SIP. Even if we find a budget adequate, the SIP could later be disapproved. We have described our process for determining the adequacy of submitted SIP budgets in 40 CFR 93.118(f), and have followed this rule in making our adequacy determination.

Dated: August 21, 2009.
William C. Early,
Acting Regional Administrator, Region III.

[FR Doc. E9-21396 Filed 9-3-09; 8:45 am]

BILLING CODE 6560-50-P